DEPARTMENT OF HEALTH AND HUMAN SERVICES

National Institutes of Health

National Institute of Diabetes and Digestive and Kidney Diseases; Cancellation of Meeting

Notice is hereby given of the cancellation of the National Institute of Diabetes and Digestive and Kidney Diseases Special Emphasis Panel, July 20, 2004, 8 a.m. to July 20, 2004, 5 p.m., Bethesda, Marriott Suites, 6711 Democracy Boulevard, Bethesda, MD, 10817 which was published in the Federal Register on May 28, 2004, 69 FR 30687.

This meeting was cancelled due to the time and new location.

Dated: June 9, 2004.
LaVerne Y. Stringfield,
Director, Office of Federal Advisory Committee Policy.

[FR Doc. 04-13660 Filed 6-16-04; 8:45 am]

BILLING CODE 4140-01-M